DEPARTMENT OF STATE

[Public Notice 6968]

Bureau of Educational and Cultural Affairs (ECA) Request for Grant Proposals: Community College Faculty and Administrator Program With Indonesia

Announcement Type: New Cooperative Agreement.

Funding Opportunity Number: ECA/A/S/U-10-03.

Catalog of Federal Domestic Assistance Number: 19.408.

Application Deadline: June 1, 2010.

Executive Summary: The Office of Global Educational Programs of the U.S. Department of State's Bureau of Educational and Cultural Affairs (ECA) announces an open competition to administer the Community College Faculty and Administrator Program with Indonesia. Community college consortia and other associations of accredited U.S. community colleges meeting the provisions described in Internal Revenue Code section 501(c)3 may submit proposals to cooperate with the Bureau to administer and implement a four-month exchange program for participants from post-secondary vocational and technical institutions in Indonesia. Key components of the Program will include professional development, leadership training, and the experience of U.S. society and culture.

The four-month academic exchange program will take place from January 2011 onward. In addition, if needed, English instruction will be offered in the U.S. to selected participants during the fall prior to the start of the academic program. The total award for all program and administrative expenses covered under the agreement will be up to approximately $500,000. In order to maximize the number of participants under this program, it is the Bureau's expectation that significant institutional and private sector funding and cost-sharing will be made available by cooperating organizations. We anticipate that approximately 18 to 20 faculty and administrators will participate in the program with one faculty and one administrator participating from each one of nine or ten vocational or technical institutions in Indonesia.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose

The Community College Faculty and Administrator Program with Indonesia will provide professional development opportunities for educators from post-secondary vocational and technical institutions in Indonesia that serve economically disadvantaged and historically underserved populations, including women and ethnic minorities. Participants will share information about their own institutions with their host colleges; further develop administrative or pedagogical skills; and learn first-hand about U.S. society and culture. A key objective of the Program is to introduce participants to the U.S. higher education system and provide them with a better understanding of U.S. community colleges, their mission, their administration, and their role in the U.S. economy, especially in linking education to employment. The Program will include vocational skills acquisition, leadership skills development, and English language training. The Program will prepare participants to make enhanced contributions to Indonesia's development by encouraging a more dynamic relationship between their institutions and key sectors in Indonesia's economy and by improving administrative and instructional practices in vocational and technical education.

The Program also will provide participants and their U.S. colleagues with the opportunity to develop lasting ties as a basis for on-going cooperation. Participants will discuss and experience, in consultation with U.S. counterparts, strategies for increasing access to higher education among underserved sectors; for teaching in mixed-age, mixed-ability classrooms; for developing partnerships with business and industry; and other educational approaches with which U.S. community colleges have relevant expertise.

Guidelines

Applicants are requested to submit a narrative of no more than 20 double-spaced, single-sided pages outlining a comprehensive strategy for the administration and implementation of the Community College Faculty and Administrator Program with Indonesia.

Participants

The Fulbright Commission in Jakarta, Indonesia will recruit participants.

Faculty participants are expected to have a minimum of five years of teaching experience as well as hands-on work experience in their fields of teaching expertise; show a strong commitment to teaching; and demonstrate an interest in innovative approaches to education. They will propose specific projects related to curriculum development or professional development. It is anticipated that faculty will be selected in the fields of business management and tourism and hospitality management. Faculty participants will be required to have English proficiency equivalent to that represented by a TOEFL score of 500.

Administrator participants are expected to have a minimum of three years of administrative experience, a record of leadership, and a commitment to educational reform. They will explore specific topics related to administrative practices, community relations, professional development or curriculum development. Preference will be given to administrators with previous teaching experience and/or some ongoing teaching responsibility. Because some administrator participants also have some teaching responsibilities at their institutions in Indonesia, administrator participants may have projects related to curriculum development as well as issues in educational reform. International administrator participants will be required to have English proficiency equivalent to that represented by a TOEFL score of 450.

Program Design

U.S. Host Colleges

Proposals should designate two primary U.S. host colleges—one for administrators and the other for faculty participants. Each primary host college should cooperate with additional colleges within a community college district, State system, consortium, to provide participants with a broad exposure to institutional missions and practices in the community college sector.

Host College Coordinators

Each primary host college should designate a coordinator with responsibility for providing guidance to participants on their projects and for working with each participant to develop a program of consultation, networking, and study that is relevant to the participant's interests. The coordinator should have knowledge of cross-cultural communication, group dynamics and organizational development and be able to assist the group in developing decision-making and problem-solving skills.

The coordinator at the primary host college for faculty participants should make arrangements for them to attend relevant courses in their fields of specialization to enable them both to acquire new vocational skills and to observe classroom practices. U.S. faculty should meet with program participants to share information about teaching approaches and may invite program participants to co-teach or assist in classes as appropriate.

The coordinator at the primary host college for administrator participants should arrange for each participant to have a U.S. mentor counterpart with responsibilities relevant to the interests of the administrator participant. The U.S. mentor administrators should provide participants with opportunities to “job shadow” or other appropriate opportunities to experience and understand relevant administrative practices firsthand. Administrator participants with curriculum development projects should also be assigned a faculty mentor. All administrator participants should be able to attend courses to enable them both to acquire new technical skills and to observe classroom practices.

The coordinator at each primary host college should also organize a program of seminars and workshops to enable participants to exchange ideas, experiences, and teaching and administrative best practices with U.S. community college faculty and administrators on a regular basis. The program of seminars and workshops should also introduce participants to the U.S. higher education system and provide them with a better understanding of U.S. community colleges, their mission, their administration, and their economic role. In addition, the seminars and workshops should provide opportunities for participants to discuss their observations, share their experiences, and identify possible lessons for adaptation in Indonesia. Sessions should encourage participants to reflect on their projects and to provide one another with feedback.

Program-Wide Mid-Semester Seminar

Proposals should also describe a three- to four-day, mid-semester seminar at a common location, bringing together administrator and faculty participants to consult with one another and develop plans for adaptation and implementation in Indonesia. The program-wide mid-semester seminar should emphasize leadership skills and feature key speakers with insights into the role and achievements of community colleges and best practices in teaching and administration.

English Language Study

Proposals should describe both a fall program of intensive English language study and the availability of on-going English language study during the semester-long academic program.

To enable the Program to accommodate qualified mid-career instructors from non-traditional and less privileged populations, proposals should designate a host college to offer four weeks of intensive English instruction in the U.S. to approximately half the participants during the fall prior to the academic program. The host college offering the intensive English program may be one of the primary host colleges or it may be another college.

Proposals should also describe on-going English as a Second Language programs and services at the primary host colleges, and include a plan to make additional, on-going language study available to all participants who need it at their host colleges as part of their academic program.

Involvement in Community Life

Proposals should describe activities that would enable participants to become involved in the social and cultural life of their local U.S. communities: For example, making presentations to local schools, businesses and civic groups or other community organizations; involvement with families; and attendance at educational and cultural events that demonstrate key features of U.S. society and culture.

Program Administration

Proposals also explain how pre-departure orientation materials will be developed and disseminated, participants registered in SEVIS under a program number to be provided by the Bureau, and post-arrival orientation programming sessions organized.

Proposals should outline procedures for supporting participants; for monitoring and evaluating their programs; and for follow-up with program alumni.

The budget should request funding for round-trip international travel from Indonesia to U.S. host institutions for all participants; round-trip domestic travel for the mid-program seminar if necessary; pre-academic intensive English language training; tuition if necessary; books; maintenance allowance; housing and costs for program administration. Applicant organizations should explain processes for providing maintenance, book, and other allowances to program participants and for paying tuition fees directly to host colleges if necessary. If possible, to streamline administrative procedures and to maintain the flexibility to respond to program developments as they occur, organizations should propose processes to provide payments to participants and colleges directly without requiring formal sub-agreements with each participating college.

Cost-sharing is expected from organizations applying to cooperate with the Bureau on this program. Applicant organizations are encouraged to include third-party contributions in their proposals.

Proposals should demonstrate depth of experience in conducting and administering complex and multi-faceted international education and cultural exchange programs. Proposals should provide a plan for continued follow-on activity (without Bureau support), such as tracking and maintaining updated lists of all alumni and facilitating follow-up activities with alumni, including ongoing communication between alumni and U.S. community college faculty.

Programs and projects must conform with the requirements and guidelines outlined in the Solicitation Package, which includes the Request for Grant Proposals (RFGP), the Project Objectives, Goals and Implementation (POGI) and the Proposal Submission Instructions (PSI).

In a Cooperative Agreement, the Bureau is substantially involved in program activities above and beyond routine grant monitoring. Bureau activities and responsibilities for this program include:

(1) Participation in the design and direction of program activities;

(2) Approval of key personnel;

(3) Approval and input on program timelines and agendas;

(4) Guidance in execution of all program components;

(5) Review and approval of all program publicity and other materials;

(6) Approval of host colleges;

(7) Final selection of participants;

(8) Approval of changes to a participant's proposed host college;

(9) Approval of decisions related to special circumstances or problems throughout duration of program;

(10) Assistance with SEVIS-related issues;

(11) Assistance with participant emergencies;

(12) Liaison with the U.S. Embassy and Fulbright Commission in Jakarta and country desk officers at the State Department.

This Cooperative Agreement should begin on or about September 15, 2010 and will run through December 31, 2011. Cooperative Agreements will include both the administrative and program portions of the program.

II. Award Information

Type of Award: Cooperative Agreement. ECA's level of involvement in this program is listed under number I above.

Fiscal Year Funds: FY2010.

Approximate Total Funding: $500,000.

Approximate Number of Awards: One.

Approximate Average Award: $500,000.

Anticipated Award Date: September 15, 2010.

Anticipated Project Completion Date: December 31, 2011.

Additional Information

Pending successful implementation of this program and the availability of funds in subsequent fiscal years, it is ECA's intent to renew this Cooperative Agreement for two additional fiscal years, before openly competing it again. In subsequent years, other fields may be added such as: Agriculture; Allied Health Fields, including Nursing; Applied Engineering; Information Technology; and Media. In addition, participating countries may be adjusted.

III. Eligibility Information

III.1. Eligible Applicants

Applications may be submitted by public and private non-profit organizations meeting the provisions described in Internal Revenue Code section 26 U.S.C. 501(c)(3) that are consortia of accredited U.S. community colleges or other combinations of community colleges. Applications must designate a lead institution to receive and administer the award.

III.2. Cost-Sharing or Matching Funds

There is no minimum or maximum percentage required for this competition. However, the Bureau encourages applicants to provide maximum levels of cost-sharing and funding in support of its programs.

When cost-sharing is offered, it is understood and agreed that the applicant must provide the amount of cost-sharing as stipulated in its proposal and later included in an approved agreement. Cost-sharing may be in the form of allowable direct or indirect costs. For accountability, you must maintain written records to support all costs that are claimed as your contribution, as well as costs to be paid by the Federal government. Such records are subject to audit. The basis for determining the value of cash and in-kind contributions must be in accordance with OMB Circular A-110, (Revised), Subpart C.23—Cost-Sharing and Matching. In the event you do not provide the minimum amount of cost-sharing as stipulated in the approved budget, ECA's contribution will be reduced in like proportion.

III.3. Other Eligibility Requirements

(a) Bureau grant guidelines require that organizations with less than four years experience in conducting international exchanges be limited to $60,000 in Bureau funding. ECA anticipates making one award, in an amount up to $500,000 to support program and administrative costs required to implement this exchange program. Therefore, organizations with less than four years experience in conducting international exchanges are ineligible to apply under this competition. The Bureau encourages applicants to provide maximum levels of cost-sharing and funding in support of its programs.

IV. Application and Submission Information

Note: Please read the complete announcement before sending inquiries or submitting proposals. Once the RFGP deadline has passed, Bureau staff may not discuss this competition with applicants until the proposal review process has been completed.

IV.1 Contact Information To Request an Application Package

Please contact the Program Officer, Mary Lou Johnson-Pizarro, in the Office of Global Educational Programs, ECA/A/S/U, SA-05, Floor 4, Department of State, Washington, DC 20522-0504, (202) 632-9483, Johnson-PizarroML@state.gov, to request a Solicitation Package. Please refer to the Funding Opportunity Number ECA/A/S/U-10-03 located at the top of this announcement when making your request. Alternatively, an electronic application package may be obtained from grants.gov. Please see section IV.3f for further information.

The Solicitation Package contains the Proposal Submission Instruction (PSI) document which consists of required application forms, and standard guidelines for proposal preparation.

It also contains the Project Objectives, Goals and Implementation (POGI) document, which provides specific information, award criteria and budget instructions tailored to this competition.

IV.2. To Download a Solicitation Package via Internet

The entire Solicitation Package may be downloaded from the Bureau's Web site at http://exchanges.state.gov/grants/open2.html, or from the Grants.gov Web site at http://www.grants.gov.

Please read all information before downloading.

IV.3. Content and Form of Submission

Applicants must follow all instructions in the Solicitation Package. The application should be submitted per the instructions under IV.3f. “Application Deadline and Methods of Submission” section below.

IV.3a. You are required to have a Dun and Bradstreet Data Universal Numbering System (DUNS) number to apply for a grant or Cooperative Agreement from the U.S. Government. This number is a nine-digit identification number, which uniquely identifies business entities. Obtaining a DUNS number is easy, and there is no charge. To obtain a DUNS number, access http://www.dunandbradstreet.com or call 1-866-705-5711. Please ensure that your DUNS number is included in the appropriate box of the SF-424 which is part of the formal application package.

IV.3b. All proposals must contain an executive summary, proposal narrative and budget.

Please refer to the Solicitation Package. It contains the mandatory Proposal Submission Instructions (PSI) document and the Project Objectives, Goals and Implementation (POGI) document for additional formatting and technical requirements.

IV.3c. You must have nonprofit status with the IRS at the time of application. Please Note: Effective January 7, 2009, all applicants for ECA Federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one- page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or Cooperative Agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa

The Bureau of Educational and Cultural Affairs places critically important emphases on the security and proper administration of the Exchange Visitor (J visa) Programs and adherence by award recipients and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, record-keeping, reporting and other requirements. The award recipient will be responsible for issuing DS-2019 forms to participants in this program.

A copy of the complete regulations governing the administration of Exchange Visitor (J) programs is available at http://exchanges.state.gov or from: United States Department of State, Office of Exchange Coordination and Designation, Office of Designation, ECA/EC/D, SA-5, Floor C2, Department of State, Washington, DC 20522-0582.

Please refer to Solicitation Package for further information.

IV.3d.2 Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it: (1) Specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3e. Please take the following information into consideration when preparing your budget:

IV.3e.1. Applicants must submit SF-424A—“Budget Information—Non-Construction Programs” along with a comprehensive budget for the entire program. Budget requests may not exceed $500,000. There must be a summary budget as well as breakdowns reflecting both administrative and program budgets. Applicants may provide separate sub-budgets for each program component, phase, location, or activity to provide clarification.

IV.3e.2. Allowable costs for the program and additional budget guidance are outlined in detail in the POGI document.

Please refer to the Solicitation Package for complete budget guidelines and formatting instructions.

IV.3f. Application Deadline and Methods of Submission

Application Deadline Date: June 1, 2010.

Reference Number: ECA/A/S/U-10-03.

Methods of Submission:

Applications may be submitted in one of two ways:

(1) In hard-copy, via a nationally recognized overnight delivery service (i.e., Federal Express, UPS, Airborne Express, or U.S. Postal Service Express Overnight Mail, etc.), or

(2) Electronically through http://www.grants.gov.

Please note: ECA strongly encourages organizations interested in applying for this competition to submit printed, hard copy applications as outlined in section IV.3f.1., below rather than submitting electronically through Grants.gov. This recommendation is being made as a result of the anticipated high volume of grant proposals that will be submitted via the Grants.gov Web portal as part of the Recovery Act stimulus package. As stated in this RFGP, ECA bears no responsibility for data errors resulting from transmission or conversion processes for proposals submitted via Grants.gov.

Along with the Project Title, all applicants must enter the above Reference Number in Box 11 on the SF-424 contained in the mandatory Proposal Submission Instructions (PSI) of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important Note: When preparing your submission please make sure to include one extra copy of the completed SF-424 form and place it in an envelope addressed to “ECA/EX/PM”.

The original and 7 copies of the application should be sent to: Program Management Division, ECA-IIP/EX/PM, Ref.: ECA/A/S/U-10-03, SA-5, Floor 4, Department of State, 2200 C Street, NW., Washington, DC 20522-0504.

Applicants submitting hard-copy applications must also submit the “Executive Summary” and “Proposal Narrative” sections of the proposal in text (.txt) or Microsoft Word format on a PC-formatted disk. The Bureau will provide these files electronically to the appropriate Public Affairs Section(s) at the U.S. embassies for their review.

IV.3f.2—Submitting Electronic Applications

Applicants have the option of submitting proposals electronically through Grants.gov (http://www.grants.gov). Complete solicitation packages are available at Grants.gov in the “Find” portion of the system.

Please note: ECA strongly encourages organizations interested in applying for this competition to submit printed, hard copy applications as outlined in section IV.3f.1. above, rather than submitting electronically through Grants.gov. This recommendation is being made as a result of the anticipated high volume of grant proposals that will be submitted via the Grants.gov Web portal as part of the Recovery Act stimulus package. As stated in this RFGP, ECA bears no responsibility for data errors resulting from transmission or conversion processes for proposals submitted via Grants.gov.

Please follow the instructions available in the “Get Started” portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your Internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to:

Grants.gov Customer Support.

Contact Center Phone: 800 -518-4726.

Business Hours: Monday—Friday, 7 a.m.—9 p.m. Eastern Time.

E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation.

Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov Web portal to ensure that proposals have been received by Grants.gov in their entirety, and ECA bears no responsibility for data errors resulting from transmission or conversion processes.

IV.3g. Intergovernmental Review of Applications

Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission.

2. Program planning: Detailed agenda and relevant work plan should demonstrate substantive undertakings and logistical capacity. Agenda and plan should adhere to the program overview and guidelines described above.

3. Ability to achieve program objectives: Objectives should be reasonable, feasible, and flexible. Proposals should clearly demonstrate how the institution will meet the program's objectives and plan.

4. Multiplier effect/impact: Proposed programs should strengthen long-term mutual understanding, including maximum sharing of information and establishment of long-term institutional and individual linkages.

5. Support of Diversity: Proposals should demonstrate substantive support of the Bureau's policy on diversity. Achievable and relevant features should be cited in both program administration (selection of participants, program venue and program evaluation) and program content (orientation and wrap-up sessions, program meetings, resource materials and follow-up activities).

6. Institutional Capacity: Proposed personnel and institutional resources should be adequate and appropriate to achieve the program or project's goals.

7. Institution's Record/Ability: Proposals should demonstrate an institutional record of successful exchange programs, including responsible fiscal management and full compliance with all reporting requirements for past Bureau awards (grants or cooperative agreements) as determined by Bureau Grants Staff. The Bureau will consider the past performance of prior recipients and the demonstrated potential of new applicants.

8. Follow-on Activities: Proposals should provide a plan for continued follow-on activity (without Bureau support) ensuring that Bureau supported programs are not isolated events.

9. Project Evaluation: Proposals should include a plan to evaluate the activity's success, both as the activities unfold and at the end of the program. A draft survey questionnaire or other technique plus description of a methodology to use to link outcomes to original project objectives is recommended.

10. Cost-effectiveness: The overhead and administrative components of the proposal, including salaries and honoraria, should be kept as low as possible. All other items should be necessary and appropriate.

11. Cost-sharing: Proposals should maximize cost-sharing through other private sector support as well as institutional direct funding contributions.

VI. Award Administration Information

VI.1a. Award Notices

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information:

http://www.whitehouse.gov/omb/grants.

http://fa.statebuy.state.gov.

VI.3. Reporting Requirements

You must provide ECA with a hard copy original plus two copies of the following reports:

(1) A final program and financial report no more than 90 days after the expiration of the award;

(2) A concise, one-page final program report summarizing program outcomes no more than 90 days after the expiration of the award. This one-page report will will be transmitted to OMB, and be made available to the public via OMB's USAspending.gov Web site—as part of ECA's Federal Funding Accountability and Transparency Act (FFATA) reporting requirements.

(3) A SF-PPR, “Performance Progress Report” Cover Sheet with all program reports.

Award recipients will be required to provide reports analyzing their evaluation findings to the Bureau in their regular program reports. (Please refer to IV. Application and Submission Instructions (IV.3.d.3) above for Program Monitoring and Evaluation information.)

All data collected, including survey responses and contact information, must be maintained for a minimum of three years and provided to the Bureau upon request.

All reports must be sent to the ECA Grants Officer and ECA Program Officer listed in the final assistance award document.

VI.4. Optional Program Data Requirements

Award recipients will be required to maintain specific data on program participants and activities in an electronically accessible database format that can be shared with the Bureau as required. As a minimum, the data must include the following:

(1) Name, address, contact information and biographic sketch of all persons who travel internationally on funds provided by the agreement or who benefit from the award funding but do not travel.

(2) Itineraries of international and domestic travel, providing dates of travel and cities in which any exchange experiences take place. Final schedules for in-country and U.S. activities must be received by the ECA Program Officer at least three work days prior to the official opening of the activity.

VII. Agency Contacts

For questions about this announcement, contact: Mary Lou Johnson-Pizarro, in the Office of Global Educational Programs, ECA/A/S/U, SA-05, Floor 4, Department of State, Washington, DC 20522-0504, (202) 632-9483 Johnson-PizarroML@state.gov.

All correspondence with the Bureau concerning this RFGP should reference the above title and number ECA/A/S/U-10-03.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 15, 2010.
Maura M. Pally,
Acting Assistant Secretary for Educational and Cultural Affairs, Department of State.

[FR Doc. 2010-9323 Filed 4-21-10; 8:45 am]

BILLING CODE 4710-05-P